DEPARTMENT OF JUSTICE

Notice of Lodging of Stipulated Orders Under the Clean Water Act and the Safe Drinking Water Act

Notice is hereby given that on November 19, 2008, two Stipulated Orders for Preliminary Injunctive Relief (“Stipulated Orders”) in United States v. Commonwealth Utilities Corporation and the Commonwealth of the Northern Mariana Islands, Civil Action No. 08-0051, were lodged with the United States District Court for the Commonwealth of the Northern Mariana Islands. The Commonwealth Utilities Corporation (“CUC”) is a public corporation that owns and operates the Agingan and Sadog Tasi Sewage Treatment Plants and associated wastewater collection and conveyance systems, public water systems, and power plants located in the Commonwealth of the Northern Mariana Islands (“CNMI”).

The Complaint, which was filed concurrently with the lodging of the Stipulated Orders, alleges that CUC violated the Clean Water Act (“CWA”), 33 U.S.C. 1251-1387, as amended by the Oil Pollution Act, 33 U.S.C. 2701-2762; and the Safe Drinking Water Act (“SDWA”), 42 U.S.C. 300f-300j-26. In the Complaint, the United States seeks injunctive relief and civil penalties relating to CUC's wastewater, drinking water, and power operations. The Complaint joins CNMI as a statutory defendant under Section 309(e) of the CWA, 33 U.S.C. 1319(e). CNMI is also a signatory to the Stipulated Orders.

Stipulated Order One is intended to ensure that CUC's wastewater and drinking water systems achieve compliance with the CWA and SDWA. The major components of Stipulated Order One are: ( 1) The reformation of CUC's management, finances, and operations; (2) the development of a wastewater and drinking water Master Plan; and (3) the construction of wastewater infrastructure. CUC is also required to take steps to comply with National Pollution Discharge Elimination System permits and compliance orders, comply with drinking water standards, and to eliminate spills from the wastewater system.

Stipulated Order Two is intended to ensure that CUC's power plant facilities achieve compliance with the CWA. These requirements include requiring CUC to eliminate oil spills, implement appropriate spill prevention measures, implement effective inspection procedures for its oil storage facilities, provide containment for oil storage facilities and prepare appropriate operating plans.

The Department of Justice will receive, for a period of thirty (30) days from the date of this publication, comments relating to the Stipulated Orders. Comments should be addressed to the Assistant Attorney General, Environment and Natural Resources Division, and either e-mailed to pubcomment-ees.enrd@usdoj.gov or mailed to P.O. Box 7611, U.S. Department of Justice, Washington, DC 20044-7611, and should refer to United States v. Commonwealth Utilities Corporation and the Commonwealth of the Northern Mariana Islands, D.J. Ref. 90-5-1-1-08471.

The Stipulated Orders may be examined at U.S. EPA Region IX at 75 Hawthorne Street, San Francisco, California 94105. During the public comment period, the Stipulated Orders may also be examined on the following Department of Justice Web site, to http://www.usdoj.gov/enrd/Consent_Decrees.html. A copy of the Stipulated Orders may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $31.00 for Stipulated Order Number One and $21.25 for Stipulated Order Number Two (25 cents per page reproduction cost) payable to the U.S. Treasury or, if by e-mail or fax, forward a check in that amount to the Consent Decree Library at the stated address.

Henry Friedman,
Assistant Section Chief, Environmental Enforcement Section, Environment and Natural Resources Division.

[FR Doc. E8-28486 Filed 12-1-08; 8:45 am]

BILLING CODE 4410-15-P